DEPARTMENT OF TRANSPORTATION

Federal Highway Administration

Notice of Final Federal Agency Action on Proposed Highway in Washington

AGENCY: Federal Highway Administration (FHWA), DOT.

ACTION: Notice of limitation of claims for judicial review of actions by FHWA.

SUMMARY: This notice announces action taken by the FHWA that is final within the meaning of 23 U.S.C. 139(l)(1). This notice announces the availability of a Record of Decision (ROD) by FHWA pursuant to the requirements of the National Environmental Protection Policy Act of 1969 (NEPA), 42 U.S.C. 4321, as amended and the Council on Environmental Quality Regulations (40 CFR Parts 1500-1508). This action relates to a proposed project in King County Washington, the SE Issaquah Bypass Project.

DATES: By this notice, the FHWA is advising the public of a final agency action subject to 23 U.S.C. 771 and 23 U.S.C. 139(l)(1). A claim seeking judicial review of the Federal Agency actions on the highway project will be barred unless the claim is filed on or before November 24, 2009. If the Federal law that authorizes that judicial review of a claim provides a time period of less than 180 days for filing such claim, then that shorter time period still applies.

FOR FURTHER INFORMATION CONTACT: For FHWA: Ms. Sharon P. Love, Environmental Program Manager, Federal Highway Administration Washington Division, 711 S. Capitol Way Suite 501, Olympia, WA 98501; phone: (360) 753-9558; fax: (360) 753-9889; and e-mail: Sharon.Love@dot.gov. For the City of Issaquah: Mr. Bob Brock, PO Box 1307, Issaquah, WA 98027-1307; phone: (425) 837-3405; and e-mail: bobb@ci.issaquah.wa.us.

SUPPLEMENTARY INFORMATION: Notice is hereby given that the FHWA has taken final agency action subject to 23 U.S.C. 139(l)(1) by issuing a Record of Decision (ROD) for the following highway project in the State of Washington: SE Issaquah Bypass, City of Issaquah, and King County. The Selected alternative is the no-build alternative.

The final environmental impact statement (FEIS) for the project was released January 4, 2008. At the time the FEIS was published, the Federal Highway Administration (FHWA), the Washington State Department of Transportation (WSDOT), and the city of Issaquah identified selected Modified Alternative 5 as the preferred course of action for building a new 1.9-kilometer (1.1-mile) four-lane principal arterial between Interstate 90 (I-90) and Front Street South in Issaquah, Washington. The proposed new arterial is commonly referred to as the Southeast Issaquah Bypass.

The Issaquah City Council passed a motion on February 4, 2008, Agenda Bill 5562, stating the “Issaquah City Council recommends that the Southeast Issaquah Bypass Alternative 7, the No-Action Alternative, be selected for the Record of Decision.”

Out of seven alternatives considered in the final EIS (including the no-action alternative), Modified Alternative 5 was determined to be the most desirable in terms of balancing social and economic impacts, impacts on the natural environment, transportation system performance, and cost. While FHWA supported the preferred alternative identified in the FEIS, it selected the No-Build alternative in the ROD due to the City Council's decision.

The actions by FHWA, and the laws under which the action was taken, are described in the Final Environmental Impact Statement for the project approved on January 4, 2008, in the FHWA Record of Decision (ROD) issued on January 26, 2009, and in other project records. The FEIS, ROD, and other documents in the FHWA project file are available by contacting the FHWA or the City of Issaquah at the addresses provided above. The FHWA ROD can be viewed and downloaded at http://www.ci.issaquah.wa.us/Files/Final_ROD_SEIssaquahBypass.pdf .

This notice applies to all Federal agency decisions on the listed project as of the issuance date of this notice and all laws under which such actions were taken, including but not limited to:

1. General: National Environmental Policy Act [42 U.S.C. 4321-4351]; Federal-Aid Act [23 U.S.C. 109].

2. Air; Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544].

5. Historic and Cultural Resources: Section 106 of the National Historic Preservation Act of 1966, as amended [16 U.S.C. 470(f) et seq.] Archeological Resources Protection Act of 1977 [16 U.S.C. 470(aa)-11]; Archeological and Historic Preservation Act [16 U.S.C. 469-469(c)].

6. Social and Economics: Civil Rights Act of 1964 [42 U.S.C 2000(d)-2000(d)(1)]; American Indians Religious Freedom Act [42 U.S.C. 1996]; Farmland Protection Act [7 U.S.C. 4201-4209]; the Uniform Relocation Assistance and Real Property Acquisition Policies of 1970, as amended [42 U.S.C. 61].

7. Wetlands and Water Resources: Clean Water Act [33 U.S.C. 1251-1377 (Section 404, Section 401, Section 319); Coastal Zone Management Act [14 U.S.C. 1451-1465]; Land and Water Conservation Fund [16 U.S.C. 4601-4604]; Safe Drinking Water Act [42 U.S.C. 300(f)-300(j)(6)]; Rivers and Harbors Act of 1899 [42 U.S.C. 401-406]; TEA-21 Wetland Mitigation [23 U.S.C. 103(b)(6)(m), 133(b)(11)]; Flood Disaster Protection Act [42 U.S.C. 4001-4128].

8. Hazardous Materials: Comprehensive Environmental Response, Compensation and Liability Act [42 U.S.C. 9501-9675]; Superfund Amendments and Reauthorization Act of 1986 [Pub. L. 99-499]; Resource, Conservation and Recovery Act [42 U.S.C. 6901-6992(k)].

9. Executive Orders: E.O. 11990, Protection of Wetlands; E.O. 11988, Floodplains Management; E.O. 12898, Federal Actions to Address Environmental Justice in Minority and Low Income Populations; E.O. 11593, Protection and Enhancement of Cultural Resources; E.O. 13007, Indian Sacred Sites; E.O. 13112, Invasive Species; E.O. 13274, Environmental Stewardship and Transportation Infrastructure Project Reviews.

(Catalog of Federal Domestic Assistance Program Number 20.205, Highway Planning and Construction. The regulations implementing Executive Order 12372 regarding intergovernmental consultation on Federal programs and activities apply to this program.)

Authority: 23 U.S.C. 139(l)(1).

Issued on: May 21, 2009.
Sharon P. Love,
Environmental Program Manager, Olympia Washington.

[FR Doc. E9-12386 Filed 5-27-09; 8:45 am]

BILLING CODE 4910-RY-P